ENVIRONMENTAL PROTECTION AGENCY

[FRL-6959-1]

Notice of Request for Proposals for Projects To Be Funded From the Water Quality Cooperative Agreement Allocation

AGENCY: Environmental Protection Agency (EPA).

ACTION: Notice.

SUMMARY: EPA Region 6 is soliciting proposals from State agencies and Tribes interested in applying for Federal assistance for Water Quality Cooperative Agreements under the Clean Water Act section 104(b)(3) in the states of Arkansas, Louisiana, New Mexico, Oklahoma and Texas. Region 6 EPA will award an estimated $1 million to eligible applicants through assistance agreements ranging in size up to $200,000 for innovative projects/ demonstrations/studies that can be used as models relating to the prevention, reduction, and elimination of water pollution.

DATES: EPA will consider all proposals received on or before 5 pm Central Time April 27, 2001. Proposals received after the due date will not be considered for funding.

ADDRESSES: Proposals should be mailed to: Terry Mendiola (6WQ-AT), U.S. Environmental Protection Agency, Region 6, 1445 Ross Avenue, Dallas, Texas 75202-2733. Overnight Delivery may be sent to the same address.

FOR FURTHER INFORMATION CONTACT: Terry Mendiola by telephone at 214-665-7144 or by E-mail at mendiola.teresita@epa.gov.

SUPPLEMENTARY INFORMATION:

What Is the Purpose of This Request for Proposals?

EPA Region 6's Water Quality Protection Division is requesting proposals from State agencies and Tribes for unique and innovative projects that address the requirements of the National Pollutant Discharge Elimination Systems (NPDES) program with special emphasis on wet weather activities, i.e., storm water, sanitary sewer overflows, and concentrated animal feeding operations as well as projects that enhance the ability of the regulated community to deal with non-traditional pollution problems in priority watersheds. Innovative studies leading to the development of Total Maximum Daily Loads (TMDL) is another priority on which these funds could be focused.

Tribal governments should submit proposals which strengthen implementation of tribal environmental protection.

An organization whose proposal is selected for Federal assistance must complete an EPA Application for Assistance, including the Federal SF-424 form (Application for Federal Assistance, see 40 CFR 31.10).

Has EPA Region 6 Identified High Priority Areas for Consideration?

EPA Region 6 has identified several project areas for priority consideration to the extent they are for research, investigations, experiments, training, demonstrations, surveys and studies related to the causes, effects, extent, prevention, reduction, and elimination of water pollution:

Concentrated Animal Feeding Operations

Alternative markets for excess manure

Voluntary Comprehensive Nutrient Management Plans for Animal Feeding

Operations with 300 to 500 animal units

Wet Weather (Sanitary Sewer Overflows (SSOs), Storm Water)

Integration of SSO and storm water requirements

Measuring the effectiveness of storm water Best Management Practices (BMPs)

Trends analysis of load reductions due to implementation of storm water BMPs

Storm water monitoring techniques

Estimating quantified benefits of enhanced sewer performance (e.g., reduced backups)

Quantifying the impacts of sewage overflows

Evaluation of impacts of peak wet weather flows on Publicly Owned Treatment Works (POTW)

Capacity, Management, Operations and Maintenance (CMOM) of POTWs Inflow/Infiltration reduction

Sewer rehabilitation methods

National Pollutant Discharge Elimination System (NPDES) Programs

Stakeholder watershed approaches

Nutrient trading

Watershed integration of NPDES programs

Innovative Permit Writing Tools

Strategy to effectively manage Permit Backlog

Pretreatment

Performance measures

Facilitation of innovative technology transfer

Pretreatment on the Mexican Border

Environmental Management System (EMS)

Benefits and impacts of EMS

EMS adoption by public agencies

Cooling Water Intake Structures (Clean Water Act, Section 316(b))

Innovative technologies that reduce impingement and entrainment of aquatic organisms into cooling water intakes

Ecological effects of cooling water intake structures on aquatic environments

Effectiveness of ecological restoration activities in reducing the impact of cooling water intake structures on the aquatic environment

Infrastructure Funding Related To

Asset Management

Operations and Maintenance (O&M) issues for small communities

Capacity Building for Tribes/Native Villages/Environmental Justice

Biosolids

Demonstrations of regional biosolids approaches

Food crop applications on biosolids and/or reclaimed water (assessments, research, demonstrations analyses)

Onsite/Decentralized Systems

State-level adoption of EPA management guidelines

Overcoming institutional, regulatory and funding barriers to implementation of decentralized options

Development of tools to assist communities with conducting comprehensive, watershed-wide assessments of risks associated with decentralized wastewater systems

TMDL

Innovative studies leading to TMDL development

Statutory Authority, Applicable Regulations, and Funding Level

Funding is authorized under the provisions of the Clean Water Act section 104(b)(3), 33 U.S.C. 1254(b)(3).

The regulation governing the award and administration of Water Quality Cooperative Agreements is 40 CFR part 31 (for States, Tribes, local governments, intertribal consortia, and interstate agencies).

Total funding available for award by Region 6 will depend on EPA's appropriation for Fiscal Year 2001; however, it is estimated that $1 million will be available for funding approved projects. A five percent match will be required for all approved projects and should be included in the total funding requested for each proposal submitted.

Proposal Format and Contents

Proposals should be limited to three pages. Full application packages should not be submitted at this time. The following format should be used for all proposals:

Name of Project:

Point of Contact: (Individual and State Agency/Tribe Name, Address, Phone Number, Fax Number, E-mail Address)

Is This a Continuation of a Previously Funded Project (if so, please provide the status of the current grant or cooperative agreement):

Proposed Award Amount:

Proposed Match:

Description of General Budget Proposed To Support Project:

Project Description: (Should not exceed two pages of single-spaced text)

Expected Accomplishments or Product, With Dates, and Interim Milestones: This section should also include a discussion of a communication plan for distributing the project results to interested parties.

Describe How the Project Meets the Evaluation Criteria Specified Below:

EPA Proposal Evaluation Criteria

EPA will consider proposals based on the following criteria:

• The relationship of the proposed project to the priorities identified in this notice.

• How well the project furthers the goal of the Clean Water Act to prevent, reduce, and eliminate water pollution.

• Innovation of project proposal.

• Cost effectiveness of the proposal.

• Agency's/Tribes' past performance.

• Compliance with directions for submittal contained in this notice.

Eligible Applicants

For the purpose of this notice, eligible applicants for assistance agreements under section 104(b)(3) of the Clean Water Act are State agencies and Tribal governments. This solicitation is limited to applicants within EPA Region 6.

Application Procedure

Please send three copies of the proposal.

Schedule of Activities

This is the estimated schedule of activities for review of proposals and notification of selections:

April 27, 2001—Proposals due to EPA.

May 29, 2001—Initial approvals identified and sponsors of projects selected for funding will be requested to submit a formal application package.

Sam Becker,
Acting Director, Water Quality Protection Division.

[FR Doc. 01-7634 Filed 3-27-01; 8:45 am]

BILLING CODE 6560-50-P